FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 2, 2011.

A. Federal Reserve Bank of Kansas City (Dennis Denney, Assistant Vice President) 1 Memorial Drive, Kansas City, Missouri 64198-0001:

1. The Dana Hale Nelson Family Irrevocable Trust; the Lisa K. Hale Family Irrevocable Trust; the Dana Hale Nelson Irrevocable Trust for Allison Lesta Nelson; the Dana Hale Nelson Irrevocable Trust for Hayley Elizabeth Nelson; the Dana Hale Nelson Irrevocable Trust for Kristen Adele Nelson, and the Lisa K. Hale Irrevocable Trust for Joseph Joshua Hodos, all of Mission Hills, Kansas; the Karen Hale Young Family Irrevocable Trust; the Max Alan Hale Family Irrevocable Trust; the Twin Meadow VHC Trust; the Karen Hale Young Irrevocable Trust for Rhys Adele Young; the Karen Hale Young Irrevocable Trust for Malia Jean Young; the Karen Hale Young Irrevocable Trust for Elle Joyce Young; the Karen Hale Young Irrevocable Trust for Tatum Diana Young; the Max Alan Hale Irrevocable Trust for Morgan Ann Hale; the Max Alan Hale Irrevocable Trust for Madison Adele Hale; the Max Alan Hale Irrevocable Trust for Keaton Mathew Hale; the Mollie Hale Carter Irrevocable Trust for Elizabeth Ann Carter, and the Mollie Hale Carter Irrevocable Trust for Jocelyn Renee Carter, all of Salina, Kansas; to become members of the Hale Family Group, and to acquire voting shares of Sunflower Financial, Inc., and thereby indirectly acquire voting shares of Sunflower Bank, National Association, both in Salina, Kansas.

Board of Governors of the Federal Reserve System, July 13, 2011.
Robert deV. Frierson,
Deputy Secretary of the Board.

[FR Doc. 2011-17963 Filed 7-15-11; 8:45 am]

BILLING CODE 6210-01-P